NATIONAL AERONAUTICS AND SPACE ADMINISTRATION

[Notice (08-033)]

Government-Owned Inventions, Available for Licensing

AGENCY: National Aeronautics and Space Administration.

ACTION: Notice of availability of inventions for licensing.

SUMMARY: The inventions listed below, assigned to the National Aeronautics and Space Administration, have been filed in the United States Patent and Trademark Office, and are available for licensing.

DATES: April 29, 2008.

FOR FURTHER INFORMATION CONTACT: Bryan A. Geurts, Patent Counsel,Goddard Space Flight Center, Mail Code 140.1, Greenbelt, MD 20771-0001; telephone (301) 286-7351; fax (301) 286-9502.

NASA Case No. GSC-14993-1: Systems, Methods, And Apparatus Of A Space Communication File Transfer System;

NASA Case No. GSC-15317-1: Field Reactive Amplification Controlling Total Adhesion Loading (FRACTAL);

NASA Case No. GSC-15353-1: A Compact Magic-T Using Microstrip-Slotline Transitions;

NASA Case No. GSC-15184-1: Three-Dimensional Range Imaging Apparatus And Method;

NASA Case No. GSC-15301-1: Flash Drive Memory Apparatus And Method;

NASA Case No. GSC-15304-1: Digital Memory Storage Hub;

NASA Case No. GSC-15172-1: System And Method For Transferring Cargo Containers In Space;

NASA Case No. GSC-15303-1: Information Capturing Method;

NASA Case No. GSC-15338-1: Method for Non-Destructive Evaluation Of Thermal Protection System Materials And Other Materials Via Ultraviolet Spectroscopy;

NASA Case No. GSC-15328-1: Systems, Methods And Apparatus Of A Nitinol Valve;

NASA Case No. GSC-15024-1: Neutron Imaging Camera, Process And Apparatus For Detection Of Special Materials;

NASA Case No. GSC-15027-2: Interferometric Polarization Control;

NASA Case No. GSC-15027-3: Interferometric Polarization Control.

Dated: April 23, 2008.
Keith T. Sefton,
Deputy General Counsel, Administration and Management.

[FR Doc. E8-9363 Filed 4-28-08; 8:45 am]

BILLING CODE 7510-13-P